DEPARTMENT OF ENERGY

Federal Energy Regulatory Commission

[Docket No. CP96-152-033]

Enbridge Pipelines (KPC); Notice of Compliance Filing

December 21, 2004.

Take notice that on December 13, 2004, Enbridge Pipelines (KPC), formerly Kansas Pipeline Company (KPC), (Enbridge KPC) tendered for filing as part of its FERC Gas Tariff, Original Volume No. 1, the tariff sheets listed in Appendix A of the filing, to be effective for the locked-in period from December 2, 1997 through November 8, 2002.

Enbridge KPC states that the purpose of this filing is to comply with the Commission's order issued on October 8, 2004, in Docket No. CP96-152-030. Enbridge Pipelines (KPC), 109 FERC ¶ 61,042 (2004).

Specifically, Enbridge KPC states that it proposes to implement firm and interruptible transportation rates for the locked-in period from December 2, 1997 through November 8, 2002 in accordance with the decisions of the Commission in the above-referenced order.

Enbridge also requests that the Commission grant such waivers, including waiver of the requirements of its regulations under 18 CFR 154.102(e)(2), providing for the numbering of tariff pages within a natural gas company's FERC Gas Tariff, and 18 CFR 154.201(a), requiring the inclusion of marked versions of the tariff pages to be changed or suspended showing additions and deletions, as are necessary to permit Enbridge KPC to file unmarked pro forma tariff sheets. Enbridge KPC states that good cause exists for the Commission to grant these waivers of its regulations.

Enbridge KPC requests that the Commission grant expedited treatment of this filing and issue an order accepting the tariff sheets listed on Attachment A by December 30, 2004.

Enbridge KPC states that copies of this filing are being mailed or, if requested, transmitted by e-mail to all affected customers of Enbridge KPC and interested state commissions, as well as to all parties appearing on the Commission's official service list in this docket.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3841 Filed 12-28-04; 8:45 am]

BILLING CODE 6717-01-P